DEPARTMENT OF TRANSPORTATION

Coast Guard

33 CFR Part 117

[CGD01-01-041]

RIN 2115-AE47

Drawbridge Operation Regulations; Jamaica Bay and Connecting Waterways, New York

AGENCY: Coast Guard, DOT.

ACTION: Notice of proposed rulemaking.

SUMMARY: The Coast Guard proposes to temporarily change the drawbridge operating regulations governing the operation of the Beach Channel Railroad Bridge, at mile 6.7, across Jamaica Bay in New York. This proposed temporary change to the drawbridge operation regulations would allow the bridge owner to require a twenty-four hours advance notice for bridge openings for thirty-one weeks, 6 a.m. to 7 p.m., on each Monday, Wednesday and Friday, from April 30, 2001 through November 30, 2001, and for six weekend days, 6 a.m. to 9 p.m., from Saturday, April 28, 2001 through Sunday, May 13, 2001. This action is necessary to facilitate necessary maintenance at the bridge.

DATES: Comments must reach the Coast Guard on or before April 23, 2001.

ADDRESSES: You may mail comments to Commander (obr), First Coast Guard District, Bridge Branch, at 408 Atlantic Avenue, Boston, MA. 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Mr. Joseph Schmied, Project Officer, First Coast Guard District, (212) 668-7195.

SUPPLEMENTARY INFORMATION:

Request for Comments

We encourage you to participate in this rulemaking by submitting comments or related material. If you do so, please include your name and address, identify the docket number for this rulemaking (CGD01-01-041), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Regulatory Information

Pursuant to 5 U.S.C. 553, a notice of proposed rulemaking (NPRM) is being published with a shortened comment period of fourteen days instead of the normal sixty day comment period because the Coast Guard did not receive conclusive information concerning the start date for this project from the bridge owner until March 15, 2001. This delay in scheduling was unavoidable because the cleaning and painting phase is the last phase of a major rehabilitation project for this bridge and the completion of other aspects were required before the painting could be definitively scheduled.

The cancellation of weekend commuter rail service has been coordinated through New York City Transit Authority to commence on April 28, 2001. Advance notification to the public of rail service suspension on the six weekend days was required well in advance of the anticipated start date so that rail commuters may plan accordingly.

The Coast Guard project officer attended a meeting on March 1, 2001, with the major stakeholders that transit this waterway to discuss the proposed closures. No objections were received from the stakeholders regarding the proposed closures.

The Coast Guard anticipates that any temporary final rule enacted following public notice and comment will be effective in less than 30 days after publication.

Any delay encountered in this regulation's effective date would be unnecessary and contrary to the public interest because the notification of weekend commuter rail service has been given and immediate action is needed to in order perform this work at the bridge during the spring, summer, and fall months of the year when ambient air temperatures and environmental conditions permit effective sand blasting and painting.

Background

The Beach Channel railroad Bridge, at mile 6.7, across Jamaica Bay has a vertical clearance of 26 feet at mean high water and 31 feet at mean low water. The existing regulations require the draw to open on signal at all times.

The bridge owner, the New York City Transit Authority, asked the Coast Guard to temporarily change the drawbridge operation regulations to require at least a twenty-four hours advance notice be given to open the Beach Channel Railroad Bridge for thirty-one weeks on each Monday, Wednesday and Friday and for six weekend days in order to facilitate structural repairs and painting at the bridge. The Coast Guard contacted all known waterway users to advise them of the proposed closures. No objections or negative comments were received in response this proposal.

Discussion of Proposal

This proposed temporary change to the drawbridge operation regulations would require mariners to provide at least a twenty-four hours advance notice for bridge openings for thirty-one weeks from 6 a.m. to 7 p.m., on each Monday, Wednesday, and Friday, from April 30, 2001 through November 30, 2001, and from 6 a.m. to 9 p.m., on Saturday and Sunday, from April 28, 2001 through May 13, 2001. Advance notice may be given by calling the number posted at the bridge.

Regulatory Evaluation

This proposed rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that the bridge will still continue to open daily for navigation.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that the bridge will still continue to open for navigation daily.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation because promulgation of drawbridge regulations have been found not to have a significant effect on the environment. A written “Categorical Exclusion Determination” is not required for this rule.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From April 28, 2001 through November 30, 2001, § 117.795 is temporarily amended by adding a new paragraph (e) to read as follows:

§ 117.795 Jamaica Bay and connecting waterways.

* * * * *

(e) The Beach Channel Railroad Bridge, at mile 6.7, shall open on signal after at least a twenty-four hours advance notice is given from 6 a.m. to 7 p.m., on each Monday, Wednesday, and Friday, from April 30, 2001 through November 30, 2001, and from 6 a.m. to 9 p.m., on Saturday and Sunday, from April 28, 2001 through May 13, 2001. Advance notice may be given by calling the number posted at the bridge.

Dated: April 2, 2001.
Gerald M. Davis,
Captain, U.S. Coast Guard, Acting Commander, First Coast Guard District.

[FR Doc. 01-8640 Filed 4-4-01; 1:42 pm]

BILLING CODE 4910-15-P